DEPARTMENT OF STATE

[Public Notice 5087]

30-Day Notice of Proposed Information Collection: DS-3091, Thomas R. Pickering Foreign Affairs Fellowship Program, OMB Control No. 1405-0143

ACTION: Notice of request for public comment and submission to OMB of proposed collection of information.

SUMMARY: The Department of State has submitted the following information collection request to the Office of Management and Budget (OMB) for approval in accordance with the Paperwork Reduction Act of 1995.

Title of Information Collection: Thomas R. Pickering Foreign Affairs Fellowship Program.

OMB Control Number: 1405-0143.

Type of Request: Extension of a Currently Approved Collection.

Originating Office: HR/REE/REC.

Form Number: DS-3091.

Respondents: College Students.

Estimated Number of Respondents: 500.

Estimated Number of Responses: 500.

Average Hours Per Response: 10.

Total Estimated Burden: 5,000 hours.

Frequency: On Occasion.

Obligation to Respond: Required to Obtain or Retain a Benefit.

A pilot program is gathering costs and reviewing security requirement necessary to stand up an electronic option.

DATES: Submit comments to the Office of Management and Budget (OMB) for up to 30 days from May 25, 2005.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Foreign Missions, U.S. Department of State, 2201 C Street, NW., Washington, DC 20520

• Fax: 202-395-6974.

FOR FURTHER INFORMATION CONTACT: You may obtain copies of the proposed information collection and supporting documents from Norris Bethea, Department of State, 2401 E. Street, NW., Washington, DC 20522, who may be reached at: 202-261-8896 or betheand@state.gov.

SUPPLEMENTARY INFORMATION: We are soliciting public comments to permit the Department to:

• Evaluate whether the proposed collection of information is necessary for the proper performance of the functions.

• Evaluate the accuracy of our estimate of the burden of the proposed collection, including the validity of the methodology and assumptions used.

• Enhance the quality, utility, and clarity of the information to be collected.

• Minimize the reporting burden on those who are to respond, including through the use of automated collection techniques or other forms of technology.

Abstract of Proposed Collection: This collection is necessary for the process of identifying highly motivated students with an interest in international affairs. Our goal is to identify and select these students from a nation-wide pool of very talented applicants. Through our application process, the Thomas R. Pickering Foreign Affairs Fellowship has managed to attract many students from diverse backgrounds to consider a career in the Foreign Service.

Methodology: This information collection is posted on both the Department of State and Woodrow Wilson National Fellowship Foundation Web sites, where an applicant can download and print an application. Because the complete application requires extensive supporting documentation, it is now paper-based. However, the Department is currently piloting an upgrade in the Department's Student Programs that may enable future applicants to apply for the Pickering Fellowship online.

Additional Information: None.

Dated: May 9, 2005.
Raphael A. Mirabal,
Deputy Director, Bureau of Human Resources, Department of State.

[FR Doc. 05-10453 Filed 5-24-05; 8:45 am]

BILLING CODE 4710-15-P